DEPARTMENT OF JUSTICE

Notice of Lodging of Proposed Consent Decree Under the Comprehensive Environmental Response, Compensation, and Liability Act of 1980, as Amended (“CERCLA”)

On October 31, 2018, the Department of Justice lodged a proposed consent decree with the United States District Court for the Western District of Michigan in the lawsuit entitled United States of America v. City of Ironwood, Michigan, Civil Action No. 2:18-cv-195.

The United States filed this lawsuit under CERCLA. The complaint requests recovery of costs that the United States incurred in responding to releases of hazardous substances at the Ironwood Manufactured Gas Plant Site in Ironwood, Michigan. The City of Ironwood agrees to pay $170,000 of the United States' response costs and maintain engineering controls at the Site. In return, the United States agrees not to sue the City of Ironwood under Section 107(a) of CERCLA.

The publication of this notice opens a period for public comment on the consent decree. Comments should be addressed to the Assistant Attorney General, Environment and Natural Resources Division, and should refer to United States of America v. City of Ironwood, Michigan, D.J. Ref. No. 90-11-3-11704. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ-ENRD, P.O. Box 7611, Washington, DC 20044-7611.

Please enclose a check or money order for $13.75 (25 cents per page reproduction cost) payable to the United States Treasury.

Randall M. Stone,
Acting Assistant Section Chief, Environmental Enforcement Section, Environment and Natural Resources Division.

[FR Doc. 2018-24295 Filed 11-6-18; 8:45 am]

BILLING CODE 4410-15-P